DEPARTMENT OF COMMERCE

International Trade Administration

[A-549-822]

Certain Frozen Warmwater Shrimp From Thailand: Final Results of Antidumping Duty Administrative Review and Final No Shipment Determination

AGENCY: Import Administration, International Trade Administration, Department of Commerce.

SUMMARY: On March 4, 2011, the Department of Commerce (the Department) published the preliminary results of the administrative review of the antidumping duty order on certain frozen warmwater shrimp (shrimp) from Thailand. This review covers 152 producers/exporters of the subject merchandise to the United States. The period of review (POR) is February 1, 2009, through January 31, 2010.

Based on our analysis of the comments received on the preliminary results, we have made certain changes in the margin calculations. Therefore, the final results differ from the preliminary results. The final weighted-average dumping margins for the reviewed firms are listed below in the section entitled “Final Results of Review.”

DATES: Effective Date: July 12, 2011.

FOR FURTHER INFORMATION CONTACT: Blaine Wiltse or Holly Phelps, AD/CVD Operations, Office 2, Import Administration, International Trade Administration, U.S. Department of Commerce, 14th Street and Constitution Avenue, NW., Washington, DC 20230; telephone (202) 482-6345 or (202) 482-0656, respectively.

SUPPLEMENTARY INFORMATION:

Background

This review covers 152 producers/exporters. The respondents which the Department selected for individual examination are Marine Gold Products, Ltd. (MRG) and Pakfood Public Company Limited and its affiliated subsidiaries (collectively, “Pakfood”).¹ The respondents which were not selected for individual examination are listed in the “Final Results of Review” section of this notice.

¹ These subsidiaries are: Asia Pacific (Thailand) Company Ltd., Chaophraya Cold Storage Co., Ltd., Okeanos Co., Ltd., Okeanos Food Co., Ltd., and Takzin Samut Co., Ltd.

On March 4, 2011, the Department published in the Federal Register the preliminary results of administrative review of the antidumping duty order on shrimp from Thailand. See Certain Frozen Warmwater Shrimp From Thailand: Preliminary Results of Antidumping Duty Administrative Review and Preliminary No Shipment Determination, 76 FR 12033 (Mar. 4, 2011) (Preliminary Results). We invited parties to comment on the Preliminary Results.

In April 2011, we received case and rebuttal briefs from the Ad Hoc Shrimp Trade Action Committee (the petitioner), the American Shrimp Processors Association and the Louisiana Shrimp Association (collectively, “the processors”), MRG, and Pakfood.

The Department has conducted this administrative review in accordance with section 751 of the Tariff Act of 1930, as amended (the Act).

Scope of the Order

The scope of this order includes certain frozen warmwater shrimp and prawns, whether wild-caught (ocean harvested) or farm-raised (produced by aquaculture), head-on or head-off, shell-on or peeled, tail-on or tail-off,² deveined or not deveined, cooked or raw, or otherwise processed in frozen form.

² “Tails” in this context means the tail fan, which includes the telson and the uropods.

The frozen warmwater shrimp and prawn products included in the scope of this order, regardless of definitions in the Harmonized Tariff Schedule of the United States (HTSUS), are products which are processed from warmwater shrimp and prawns through freezing and which are sold in any count size.

The products described above may be processed from any species of warmwater shrimp and prawns. Warmwater shrimp and prawns are generally classified in, but are not limited to, the Penaeidae family. Some examples of the farmed and wild-caught warmwater species include, but are not limited to, whiteleg shrimp (Penaeus vannemei), banana prawn (Penaeus merguiensis), fleshy prawn (Penaeus chinensis), giant river prawn (Macrobrachium rosenbergii), giant tiger prawn (Penaeus monodon), redspotted shrimp (Penaeus brasiliensis), southern brown shrimp (Penaeus subtilis), southern pink shrimp (Penaeus notialis), southern rough shrimp (Trachypenaeus curvirostris), southern white shrimp (Penaeus schmitti), blue shrimp (Penaeus stylirostris), western white shrimp (Penaeus occidentalis), and Indian white prawn (Penaeus indicus).

Frozen shrimp and prawns that are packed with marinade, spices or sauce are included in the scope of this order. In addition, food preparations, which are not “prepared meals,” that contain more than 20 percent by weight of shrimp or prawn are also included in the scope of this order.

Excluded from the scope are: (1) Breaded shrimp and prawns (HTSUS subheading 1605.20.10.20); (2) shrimp and prawns generally classified in the Pandalidae family and commonly referred to as coldwater shrimp, in any state of processing; (3) fresh shrimp and prawns whether shell-on or peeled (HTSUS subheadings 0306.23.00.20 and 0306.23.00.40); (4) shrimp and prawns in prepared meals (HTSUS subheading 1605.20.05.10); (5) dried shrimp and prawns; (6) canned warmwater shrimp and prawns (HTSUS subheading 1605.20.10.40); (7) certain dusted shrimp; and (8) certain battered shrimp. Dusted shrimp is a shrimp-based product: (1) That is produced from fresh (or thawed-from-frozen) and peeled shrimp; (2) to which a “dusting” layer of rice or wheat flour of at least 95 percent purity has been applied; (3) with the entire surface of the shrimp flesh thoroughly and evenly coated with the flour; (4) with the non-shrimp content of the end product constituting between four and ten percent of the product's total weight after being dusted, but prior to being frozen; and (5) that is subjected to IQF freezing immediately after application of the dusting layer. Battered shrimp is a shrimp-based product that, when dusted in accordance with the definition of dusting above, is coated with a wet viscous layer containing egg and/or milk, and par-fried.

The products covered by this order are currently classified under the following HTSUS subheadings: 0306.13.00.03, 0306.13.00.06, 0306.13.00.09, 0306.13.00.12, 0306.13.00.15, 0306.13.00.18, 0306.13.00.21, 0306.13.00.24, 0306.13.00.27, 0306.13.00.40, 1605.20.10.10, and 1605.20.10.30. These HTSUS subheadings are provided for convenience and for customs purposes only and are not dispositive, but rather the written description of the scope of this order is dispositive.

Period of Review

The POR is February 1, 2009, through January 31, 2010.

Determination of No Shipments

As noted in the Preliminary Results, we received no-shipment claims from 14 companies named in the Initiation Notice, and we confirmed the claims from 12 of these companies with U.S. Customs and Border Protection (CBP). Because we find that the record indicates that these 12 companies did not export subject merchandise to the United States during the POR, we determine that they had no reviewable transactions during the POR. These companies are:

(1) American Commercial Transport, Inc.

(2) Ampai Frozen Food Co., Ltd.

(3) Far East Cold Storage Co., Ltd.

(4) Grobest Frozen Foods Co., Ltd.

(5) Inter-Oceanic Resources Co., Ltd.

(6) Leo Transport Corporation Ltd.³

³ This company was listed in the Initiation Notice as Leo Transports.

(7) Mahachai Food Processing Co., Ltd.

(8) S. Khonkaen Food Industry Public Co., Ltd.

(9) Siam Marine Frozen Foods Co., Ltd.

(10) Siam Ocean Frozen Foods Co. Ltd.

(11) Thai Union Manufacturing Co., Ltd.

(12) V. Thai Food Product Co., Ltd.⁴

⁴ This company was listed in the Initiation Notice as V Thai Food Product.

See Preliminary Results, 76 FR at 12035-12036.

As we stated in the Preliminary Results, our former practice concerning respondents submitting timely no-shipment certifications was to rescind the administrative review with respect to those companies if we were able to confirm the no-shipment certifications through a no-shipment inquiry with CBP. See Antidumping Duties; Countervailing Duties; Final rule, 62 FR 27296, 27393 (May 19, 1997); see also Stainless Steel Sheet and Strip in Coils from Taiwan: Final Results of Antidumping Duty Administrative Review, 75 FR 76700, 76701 (Dec. 9, 2010). As a result, in such circumstances, we normally instructed CBP to liquidate any entries from the no-shipment company at the deposit rate in effect on the date of entry.

In our May 6, 2003, clarification of the “automatic assessment” regulation, we explained that, where respondents in an administrative review demonstrate that they had no knowledge of sales through resellers to the United States, we would instruct CBP to liquidate such entries at the all-others rate applicable to the proceeding. See Antidumping and Countervailing Duty Proceedings: Assessment of Antidumping Duties, 68 FR 23954 (May 6, 2003) (Assessment Policy Notice).

As noted in the Preliminary Results, because “as entered” liquidation instructions do not alleviate the concerns which the May 2003 clarification was intended to address, we find it appropriate in this case to instruct CBP to liquidate any existing entries of merchandise produced by the above listed companies and exported by other parties at the all-others rate. In addition, we continue to find that it is more consistent with the May 2003 clarification not to rescind the review in part in these circumstances but, rather, to complete the review with respect to the 12 companies listed above and issue appropriate instructions to CBP based on the final results of this administrative review. See the “Assessment Rates” section of this notice below.

With respect to the two companies which submitted deficient statements of no shipments during the POR, A. Wattanachai Frozen Products Co., Ltd. (Wattanachai) and Calsonic Kansei (Thailand) Co., Ltd.'s (Calsonic), we continue to find that there is insufficient evidence on the record of this review to conclude that these companies made no shipments of subject merchandise to the United States during the POR. Therefore, we are continuing to include both companies in this administrative review for the final results.

Cost of Production

As discussed in the Preliminary Results, we conducted an investigation to determine whether MRG and Pakfood made home market sales of the foreign like product during the POR at prices below their costs of production (COP) within the meaning of section 773(b) of the Act. See Preliminary Results, 76 FR at 12039-12040. For these final results, we performed the cost test following the same methodology as in the Preliminary Results.

We found 20 percent or more of each respondent's sales of a given product during the reporting period were at prices less than the weighted-average COP for this period. Thus, we determined that these below-cost sales were made in “substantial quantities” within an extended period of time and at prices which did not permit the recovery of all costs within a reasonable period of time in the normal course of trade. See sections 773(b)(1)-(2) of the Act.

Therefore, for purposes of these final results, we continue to find that MRG and Pakfood made below-cost sales not in the ordinary course of trade. Consequently, we disregarded these sales for each respondent and used the remaining sales as the basis for determining NV pursuant to section 773(b)(1) of the Act. For those U.S. sales of subject merchandise for which there were no home market sales in the ordinary course of trade, we compared constructed export prices or export prices, as appropriate, to constructed value in accordance with section 773(a)(4) of the Act.

Analysis of Comments Received

All issues raised in the case briefs by parties to this administrative review, are listed in the Appendix to this notice and addressed in the Issues and Decision Memorandum (Decision Memo), which is adopted by this notice. Parties can find a complete discussion of all issues raised in this review and the corresponding recommendations in this public memorandum, which is on file in the Central Records Unit, room 7046, of the main Department building.

In addition, a complete version of the Decision Memo can be accessed directly on the Web at http://ia.ita.doc.gov/frn/. The paper copy and electronic version of the Decision Memo are identical in content.

Changes Since the Preliminary Results

Based on our analysis of the comments received, we have made certain changes in the margin calculations. These changes are discussed in the relevant sections of the Decision Memo.

Final Results of Review

We determine that the following weighted-average margin percentages exist for the period February 1, 2009, through January 31, 2010:

Manufacturer/exporter | Percent margin
Marine Gold Products, Ltd | *0.41
Pakfood Public Company Limited/Asia Pacific (Thailand) Co., Ltd./ Chaophraya Cold Storage Co., Ltd./Okeanos Co. Ltd./ Okeanos Food Co. Ltd./Takzin Samut Co., Ltd | 0.73
* (de minimis.)

Review-Specific Average Rate Applicable to the Following Companies: ⁵

⁵ This rate is based on the margins calculated for those companies selected for individual review, excluding de minimis margins or margins based entirely on adverse facts available.

Manufacturer/exporter | Percent margin
A. Wattanachai Frozen Products Co., Ltd | 0.73
A.S. Intermarine Foods Co., Ltd | 0.73
ACU Transport Co., Ltd | 0.73
American Commercial Transport (Thailand) | *
Ampai Frozen Food Co., Ltd | *
Apex Maritime (Thailand) Co., Ltd | 0.73
Apex Maritime Thailand | 0.73
Asian Seafoods Coldstorage Public Co., Ltd./Asian Seafoods Coldstorage (Suratthani) Co./STC Foodpak Ltd | 0.73
Assoc. Commercial Systems | 0.73
B.S.A. Food Products Co., Ltd | 0.73
Bangkok Dehydrated Marine Product Co., Ltd | 0.73
Best Fruits | 0.73
C.P. Merchandising Co., Ltd | 0.73
C Y Frozen Food Co., Ltd | 0.73
Calsonic Kansei (Thailand) Co., Ltd | 0.7
Century Industries Co., Ltd | 0.73
Chaivaree Marine Products Co., Ltd | 0.73
Chaiwarut Co., Ltd | 0.73
Charoen Pokphand Foods Public Co., Ltd | 0.73
Chue Eie Mong Eak | 0.73
Conair Intertraffic Co., Ltd | 0.73
Core Seafood Processing Co., Ltd | 0.73
Crystal Frozen Foods Co., Ltd. and/or Crystal Seafood | 0.73
Daedong (Thailand) Co. Ltd | 0.73
Daiei Taigen (Thailand) Co., Ltd | 0.73
Daiho (Thailand) Co., Ltd | 0.73
Dextrans Worldwide (Thailand) Ltd | 0.73
Dragon International Furniture Co., Ltd | 0.73
Earth Food Manufacturing Co., Ltd | 0.73
Enburg Food Thai Co., Ltd | 0.73
Extra Maritime Co., Ltd | 0.73
F.A.I.T. Corporation Limited | 0.73
Far East Cold Storage Co., Ltd | *
Findus (Thailand) Ltd | 0.73
Fortune Frozen Foods (Thailand) Co., Ltd | 0.73
Frozen Marine Products Co., Ltd | 0.73
Fujitsu General (Thailand) Co., Ltd | 0.73
Gallant Ocean (Thailand) Co., Ltd./Gallant Seafoods Corporation | 0.73
Golden Sea Frozen Foods Co., Ltd | 0.73
Good Fortune Cold Storage Co., Ltd | 0.73
Good Luck Product Co., Ltd | 0.73
Great Food (Dehydration) Co., Ltd | 0.73
Grobest Frozen Foods Co., Ltd | *
Gulf Coast Crab Intl | 0.73
H.A.M. International Co., Ltd | 0.73
Heng Seafood Limited Partnership | 0.73
Herba Bangkok S.L | 0.73
Heritrade Co., Ltd | 0.73
HIC (Thailand) Co., Ltd | 0.73
I.T. Foods Industries Co., Ltd | 0.73
Inter-Furnitech Co., Ltd | 0.73
Inter-Oceanic Resources Co., Ltd | *
Inter-Pacific Marine Products Co., Ltd | 0.73
Inter-Taste Foods Co., Ltd | 0.73
K Fresh | 0.73
K. D. Trading Co., Ltd | 0.73
KF Foods | 0.73
K.L. Cold Storage Co., Ltd | 0.73
K & U Enterprise Co., Ltd | 0.73
Kiang Huat Sea Gull Trading Frozen Food Public Co., Ltd | 0.73
Kingfisher Holdings Ltd | 0.73
Kibun Trdg | 0.73
Klang Co., Ltd | 0.73
Kitchens of the Ocean (Thailand) Ltd | 0.73
Kongphop Frozen Foods Co., Ltd | 0.73
Kosamut Frozen Foods Co., Ltd | 0.73
Lee Heng Seafood Co., Ltd | 0.73
Leo Transports | *
Maersk Line | 0.73
Magnate & Syndicate Co., Ltd | 0.73
Mahachai Food Processing Co., Ltd | *
May Ao Co., Ltd./May Ao Foods Co., Ltd | 0.73
Meyer Industries Ltd | 0.73
Namprik Maesri Ltd. Part | 0.73
Narong Seafood Co., Ltd | 0.73
National Starch and Chemical Thailand Ltd | 0.73
Noble Marketing Co., Ltd | 0.73
NR Instant Produce Co., Ltd | 0.73
Oki Data Manufacturing (Thailand) Co., Ltd | 0.73
Ongkorn Cold Storage Co., Ltd./Thai-Ger Marine Co., Ltd | 0.73
Orion Electric Co., Ltd | 0.73
Pacific Queen Co., Ltd | 0.73
Penta Impex Co., Ltd | 0.73
Pinwood Nineteen Ninety Nine | 0.73
Pioneer Manufacturing (Thailand) Co., Ltd | 0.73
Piti Seafoods Co., Ltd | 0.73
Premier Frozen Products Co., Ltd | 0.73
Preserved Food Specialty Co., Ltd | 0.73
Protainer International Co., Ltd | 0.73
Queen Marine Food Co., Ltd | 0.73
Rayong Coldstorage (1987) Co., Ltd | 0.73
S&D Marine Products Co., Ltd | 0.73
S&P Aquarium | 0.73
S&P Syndicate Public Company Ltd | 0.73
S. Chaivaree Cold Storage Co., Ltd | 0.73
S. Khonkaen Food Industry Public Co., Ltd. and/or S. Khonkaen Food Ind Public | *
SMP Foods Products Co., Ltd | 0.73
Samui Foods Company Limited | 0.73
Sea Bonanza Food Co., Ltd | 0.73
Seafoods Enterprise Co., Ltd | 0.73
Seafresh Fisheries/Seafresh Industry Public Co., Ltd | 0.73
Siam Food Supply Co., Ltd | 0.73
Siam Intersea Co., Ltd | 0.73
Siam Marine Products Co. Ltd | 0.73
Siam Marine Frozen Foods Co., Ltd | *
Siam Ocean Frozen Foods Co. Ltd | *
Siam Union Frozen Foods | 0.73
Siamchai International Food Co., Ltd | 0.73
Smile Heart Foods Co. Ltd | 0.73
Southport Seafood Company Limited | 0.73
Suntechthai Intertrading Co., Ltd | 0.73
Surapon Nichirei Foods Co., Ltd | 0.73
Surapon Seafoods Public Co., Ltd./Surapon Foods Public Co., Ltd./Surat Seafoods Co., Ltd | 0.73
Suratthani Marine Products Co., Ltd | 0.73
Suree Interfoods Co., Ltd | 0.73
T.H.I. Group (Bangkok) Co., Ltd | 0.73
T.P. Food Canning Ltd., Part | 0.73
T.S.F. Seafood Co., Ltd | 0.73
Tanaya International Co., Ltd | 0.73
Tanaya Intl | 0.73
Teppitak Seafood Co., Ltd | 0.73
Tey Seng Cold Storage Co., Ltd | 0.73
Tep Kinsho Foods Co., Ltd | 0.73
Thai Agri Foods Public Co., Ltd | 0.73
Thai Frozen Foods Co., Ltd | 0.73
Thai Lee Agriculture Co., Ltd | 0.73
Thai Mahachai Seafood Products Co., Ltd | 0.73
Thai Ocean Venture Co., Ltd | 0.73
Thai Onono Public Co., Ltd | 0.73
Thai Patana Frozen | 0.73
Thai Prawn Culture Center Co., Ltd | 0.73
Thai Royal Frozen Food Co. Ltd | 0.73
Thai Spring Fish Co., Ltd | 0.73
Thai Union Frozen Products Public Co., Ltd./Thai Union Seafood Co., Ltd | 0.73
Thai Union Manufacturing Co., Ltd. and/or Thai Union Mfg | *
Thai World Imp & Exp Co | 0.73
Thai Yoo Ltd., Part | 0.73
Thaveevong Industry Co., Ltd | 0.73
The Siam Union Frozen Foods Co., Ltd | 0.73
The Union Frozen Products Co., Ltd./Bright Sea Co., Ltd | 0.73
Trang Seafood Products Public Co., Ltd | 0.73
Transamut Food Co., Ltd | 0.73
Tung Lieng Trdg | 0.73
United Cold Storage Co., Ltd | 0.73
V Thai Food Product Co. Ltd | *
Wann Fisheries Co., Ltd | 0.73
Xian-Ning Seafood Co., Ltd | 0.73
Yeenin Frozen Foods Co., Ltd | 0.73
YHS Singapore Pte | 0.73
ZAFCO TRDG | 0.73
* No shipments or sales subject to this review.

Assessment Rates

The Department shall determine, and CBP shall assess, antidumping duties on all appropriate entries.

Pursuant to 19 CFR 351.212(b)(1), because MRG and Pakfood reported the entered value for certain of their U.S. sales, we have calculated importer-specific ad valorem duty assessment rates based on the ratio of the total amount of antidumping duties calculated for the examined sales to the total entered value of the sales for which entered value was reported. To determine whether the duty assessment rates are de minimis, in accordance with the requirement set forth in 19 CFR 351.106(c)(2), we have calculated importer-specific ad valorem ratios based on the entered value.

For the remainder of MRG's and Pakfood's U.S. sales, we note that these companies did not report the entered value for the U.S. sales in question. Therefore, we have calculated importer-specific per-unit duty assessment rates by aggregating the total amount of antidumping duties calculated for the examined sales and dividing this amount by the total quantity of those sales. With respect to MRG's and Pakfood's U.S. sales of shrimp with sauce for which no entered value was reported, we have included the total quantity of the merchandise with sauce in the denominator of the calculation of the importer-specific rate because CBP will apply the per-unit duty rate to the total quantity of merchandise entered, including the sauce weight. To determine whether the duty assessment rates are de minimis, in accordance with the requirement set forth in 19 CFR 351.106(c)(2), we have calculated importer-specific ad valorem ratios based on the estimated entered value.

For the companies which were not selected for individual review, we have assigned these companies Pakfood's rate for the final results, as this rate is the only calculated rate above de minimis.

Pursuant to 19 CFR 351.106(c)(2), we will instruct CBP to liquidate without regard to antidumping duties any entries for which the assessment rate is de minimis (i.e., less than 0.50 percent). The Department intends to issue assessment instructions to CBP 15 days after the date of publication of these final results of review.

The Department clarified its “automatic assessment” regulation on May 6, 2003. See Assessment Policy Notice. This clarification will apply to entries of subject merchandise during the POR produced by companies included in these final results of review for which the reviewed companies did not know their merchandise was destined for the United States. In such instances, we will instruct CBP to liquidate unreviewed entries at the all-others rate established in the Section 129 Determination ⁶ if there is no rate for the intermediate company(ies) involved in the transaction.

⁶ See Implementation of the Findings of the WTO Panel in United States Antidumping Measure on Shrimp from Thailand: Notice of Determination under Section 129 of the Uruguay Round Agreements Act and Partial Revocation of the Antidumping Duty Order on Frozen Warmwater Shrimp from Thailand, 74 FR 5638 (Jan. 30, 2009) (Section 129 Determination).

Cash Deposit Requirements

The following cash deposit requirements will be effective for all shipments of subject merchandise ⁷ entered, or withdrawn from warehouse, for consumption on or after the publication date of the final results of this administrative review, as provided for by section 751(a)(2)(C) of the Act: (1) The cash deposit rates for the reviewed companies will be the rates shown above, except if the rate is less than 0.50 percent, de minimis within the meaning of 19 CFR 351.106(c)(1), the cash deposit will be zero; (2) for previously reviewed or investigated companies not listed above, as well as those companies listed in the “Determination of No Shipments” section, above, the cash deposit rate will continue to be the company-specific rate published for the most recent period; (3) if the exporter is not a firm covered in this review, or the less-than-fair-value investigation, but the manufacturer is, the cash deposit rate will be the rate established for the most recent period for the manufacturer of the merchandise; and (4) the cash deposit rate for all other manufacturers or exporters will continue to be 5.34 percent, the all-others rate made effective by the Section 129 Determination. These deposit requirements shall remain in effect until further notice.

⁷ On April 26, 2011, the Department amended the scope of the antidumping duty orders on certain frozen warmwater shrimp from Brazil, India, the People's Republic of China, Thailand, and the Socialist Republic of Vietnam to include dusted shrimp within the scope of the orders. See Certain Frozen Warmwater Shrimp From Brazil, India, the People's Republic of China, Thailand, and the Socialist Republic of Vietnam: Amended Antidumping Duty Orders in Accordance with Final Court Decision, 76 FR 23277, 23279 (Apr. 26, 2011). Accordingly, for all entries made on or after April 26, 2011, we will instruct CBP to collect cash deposits on imports of the subject merchandise (including dusted shrimp) entered, or withdrawn from warehouse, for consumption at the rates noted above.

Notification to Importers

This notice serves as a final reminder to importers of their responsibility, under 19 CFR 351.402(f)(2), to file a certificate regarding the reimbursement of antidumping duties prior to liquidation of the relevant entries during this review period. Failure to comply with this requirement could result in the Secretary's presumption that reimbursement of antidumping duties occurred and the subsequent assessment of double antidumping duties.

Notification to Interested Parties

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

We are issuing and publishing these results of review in accordance with sections 751(a)(1) and 777(i)(1) of the Act.

Dated: July 5, 2011.
Ronald K. Lorentzen,
Deputy Assistant Secretary for Import Administration.

Appendix—Issues in Decision Memorandum

General Issues

1. Offsets for Negative Margins

2. Setting the Date for Window Period Sales

3. Allegation of a Particular Market Situation in Thailand

4. Calculation of the Rate Applied to Non-Selected Companies

5. Clerical Errors in the Preliminary Results

6. Treatment of Sauce and Glaze in the Calculation of Gross Unit Price

Company-Specific Comments

7. Calculation of General and Administrative Expenses for Pakfood Public Company Limited and its Affiliates

8. Calculation of Cost of Manufacturing for Pakfood

[FR Doc. 2011-17485 Filed 7-11-11; 8:45 am]

BILLING CODE 3510-DS-P